NUCLEAR REGULATORY COMMISSION

Office of New Reactors; Notice of Availability of the Final Interim Staff Guidance COL-ISG-02 on Financial Qualifications of Applicants

AGENCY: Nuclear Regulatory Commission (NRC).

ACTION: Notice of availability.

SUMMARY: The NRC is issuing its Final Interim Staff Guidance (ISG) COL-ISG-02. This COL-ISG provides guidance on financial qualifications for and combined license (COL) applicants. This COL-ISG summarizes the requirements under Title 10 of the Code of Federal Regulations (10 CFR) Section 50.33(f)(1) for COL applicants and corrects the information provided in Section C.IV.5.1 of Regulatory Guide 1.206, “COL Applications for Nuclear Power Plants (LWR Edition).”

The NRC staff issues ISGs to facilitate timely implementation of the current staff guidance and to facilitate activities associated with review of applications for design certifications and COLs for the Office of New Reactors. The NRC staff will also incorporate the approved DC/COL-ISGs into the next revision of the appropriate review guidance documents.

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Mr. Arlon O. Costa, Acting Branch Chief, Financial, Policy and Rule Making Branch, Division of Policy and Rule Making, Office of Nuclear Reactor Regulation, U.S. Nuclear Regulatory Commission, Washington, DC 20555-0001; telephone 301-415-6402 or e-mail at roc@nrc.gov.

SUPPLEMENTARY INFORMATION: COL-IGS-02 is posted on the agency's external web page (http://www.nrc.gov/reading-rm/doc-collections/isg/).

Dated at Rockville, Maryland, this 2nd day of May 2008.
For the Nuclear Regulatory Commission,
William D. Reckley,
Branch Chief Rulemaking, Guidance and Advanced Reactors Branch, Division of New Reactor Licensing, Office of New Reactors.

[FR Doc. E8-10248 Filed 5-7-08; 8:45 am]

BILLING CODE 7590-01-P